ELECTION ASSISTANCE COMMISSION

Sunshine Act Meetings

AGENCY: U.S. Election Assistance Commission.

ACTION: Sunshine Act notice; notice of public roundtable agenda.

SUMMARY: Roundtable Discussion: Voter Registration During the COVID-19 Pandemic.

DATES: Friday, September 18, 2020, 1:00 p.m.-2:30 p.m. Eastern.

ADDRESSES: Virtual via Zoom. The roundtable discussion is open to the public and will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct a virtual roundtable discussion on the challenges election administrators and individuals face regarding voter registration during the COVID-19 pandemic and discuss how state and local election offices are responding to those challenges.

Agenda: The U.S. Election Assistance Commission (EAC) will hold a roundtable discussion on the impact that COVID-19 has had on voter registration efforts. The roundtable will be moderated by the EAC Commissioners who will ask speakers to address the importance of registering and updating voter registration early, the impact of other external factors such as limited hours and closures at state and local departments of motor vehicle offices, as well as what participants have done to combat other voter registration challenges that have developed because of COVID-19.

The full agenda will be posted in advance on the EAC website: https://www.eac.gov.

STATUS: This roundtable discussion will be open to the public.

Amanda Joiner,
Associate Counsel, U.S. Election Assistance Commission.

[FR Doc. 2020-20110 Filed 9-9-20; 11:15 am]

BILLING CODE 6820-KF-P